FEDERAL TRADE COMMISSION

16 CFR Part 305

Rule Concerning Disclosures Regarding Energy Consumption and Water Use of Certain Home Appliances and Other Products Required Under the Energy Policy and Conservation Act (“Appliance Labeling Rule”)

AGENCY: Federal Trade Commission.

ACTION: Final rule.

SUMMARY: The Federal Trade Commission (“Commission”) amends its Appliance Labeling Rule (“Rule”) by publishing new ranges of comparability to be used on required labels for compact clothes washers. The Commission also announces that the current ranges of comparability for standard-sized clothes washers will remain in effect until further notice.

EFFECTIVE DATE: The amendments announced in this document will become effective February 23, 2004.

FOR FURTHER INFORMATION CONTACT: Hampton Newsome, Attorney, Division of Enforcement, Federal Trade Commission, Washington, DC 20580 (202) 326-2889.

SUPPLEMENTARY INFORMATION: The Rule was issued by the Commission in 1979, 44 FR 66466 (Nov. 19, 1979), in response to a directive in the Energy Policy and Conservation Act of 1975 (“EPCA”),¹ The Rule covers several categories of major household appliances including dishwashers.

¹ 42 U.S.C. 6294. The statute also requires the Department of Energy (“DOE”) to develop test procedures that measure how much energy the appliances use, and to determine the representative average cost a consumer pays for the different types of energy available.

I. Background

The Rule requires manufacturers of all covered appliances to disclose specific energy consumption or efficiency information (derived from the DOE test procedures) at the point of sale in the form of an “EnergyGuide” label and in catalogs. The Rule requires manufacturers to include, on labels and fact sheets, an energy consumption or efficiency figure and a “range of comparability.” This range shows the highest and lowest energy consumption or efficiencies for all comparable appliance models so consumers can compare the energy consumption or efficiency of other models (perhaps competing brands) similar to the labeled model. The Rule also requires manufacturers to include, on labels for some products, a secondary energy usage disclosure in the form of an estimated annual operating cost based on a specified DOE national average cost for the fuel the appliance uses.

Section 305.8(b) of the Rule requires manufacturers, after filing an initial report, to report certain information annually to the Commission by specified dates for each product type.² These reports, which are to assist the Commission in preparing the ranges of comparability, contain the estimated annual energy consumption or energy efficiency ratings for the appliances derived from tests performed pursuant to the DOE test procedures. Because manufacturers regularly add new models to their lines, improve existing models, and drop others, the data base from which the ranges of comparability are calculated is constantly changing. To keep the required information on labels consistent with these changes, the Commission will publish new ranges if an analysis of the new information indicates that the upper or lower limits of the ranges have changed by more than 15%. Otherwise, the Commission will publish a statement that the prior ranges remain in effect for the next year.

² Reports for clothes washers are due October 1.

II. 2003 Clothes Washer Ranges

The Commission has analyzed the 2003 annual data submissions for clothes washers. The data submissions show a significant change in the range of comparability scale for compact clothes washers.³ Accordingly, the Commission is publishing new ranges of comparability for compact clothes washers in appendix F of the rule. To effect this amendment, the Commission has divided appendix F into two parts, appendix F1 for standard clothes washers and appendix F2 for compact clothes washers. Because the range of comparability for standard clothes washers has not changed significantly, the Commission is not amending the range in the rule for those products.⁴

³ The Commission's classification of “Standard” and “Compact” dishwashers is based on internal load capacity. Appendix C of the Commission's Rule defines “Compact” as including countertop dishwasher models with a capacity of fewer than eight (8) place settings and “Standard” as including portable or built-in dishwasher models with a capacity of eight (8) or more place settings. The Rule requires that place settings be determined in accordance with appendix C to 10 CFR part 430, subpart B, of DOE's energy conservation standards program.

⁴ In a February 21, 2003 notice (68 FR 8448), the Commission discussed the possibility of publishing clothes washer ranges this year based on data derived from a new DOE test procedure that will become effective on January 1, 2004 (10 CFR part 430, subpart B, appendix J1). On October 1, 2003, the Commission received data for some models that had been tested under the new procedure as well as data submissions reflecting results based on the current (existing) test procedure for all models (10 CFR part 430, subpart B, appendix J). The submitted data indicates that the number of models tested under the new procedure as of October 1 was relatively small compared to the total number of models reported. In addition, the submitted information did not contain any data for compact models tested under the new procedure. Given this limited data and the possibility that many more models have yet to be tested under the new procedure, it is not appropriate to amend the ranges based on this limited new test data at this time. Accordingly, this notice reflects the review of data for models tested under the current (existing) DOE test procedure.

Manufacturers of compact clothes washers must base the disclosures of estimated annual operating cost required at the bottom of EnergyGuide labels for standard-sized dishwashers on the 2003 Representative Average Unit Costs of Energy for electricity (8.41 cents per kilowatt-hour) and natural gas (81.6 cents per therm) that were published by DOE on April 9, 2003 (68 FR 17361) and by the Commission on May 5, 2003 (68 FR 23584).The new range for compact models will become effective February 23, 2004. Manufacturers may begin using the new range before that date.⁵

⁵ The Commission notes that recent amendments to the clothes washer label require advisory language related to the new test procedure on labels for all models produced beginning January 1, 2004 (see 68 FR 36458 (June 18, 2003)).

III. Administrative Procedure Act

The amendments published in this notice involve routine, technical and minor, or conforming changes to the labeling requirements in the Rule. These technical amendments merely provide a routine change to the range and cost information required on EnergyGuide labels. Accordingly, the Commission finds for good cause that public comment for these technical, procedural amendments is impractical and unnecessary (5 U.S.C. 553(b)(A)(B) and (d)).

IV. Regulatory Flexibility Act

The provisions of the Regulatory Flexibility Act relating to a Regulatory Flexibility Act analysis (5 U.S.C. 603-604) are not applicable to this proceeding because the amendments do not impose any new obligations on entities regulated by the Appliance Labeling Rule. These technical amendments merely provide a routine change to the range information required on EnergyGuide labels. Thus, the amendments will not have a “significant economic impact on a substantial number of small entities.” 5 U.S.C. 605. The Commission has concluded, therefore, that a regulatory flexibility analysis is not necessary, and certifies, under section 605 of the Regulatory Flexibility Act (5 U.S.C. 605(b)), that the amendments announced today will not have a significant economic impact on a substantial number of small entities.

V. Paperwork Reduction Act

In a June 13, 1998 notice (53 FR 22106), the Commission stated that the Rule contains disclosure and reporting requirements that constitute “information collection requirements” as defined by 5 CFR 1320.7(c), the regulation that implements the Paperwork Reduction Act.⁶ The Commission noted that the Rule had been reviewed and approved in 1984 by the Office of Management and Budget (“OMB”) and assigned OMB Control No. 3084-0068. OMB has reviewed the Rule and extended its approval for its recordkeeping and reporting requirements until September 30, 2004. The amendments now being adopted do not change the substance or frequency of the recordkeeping, disclosure, or reporting requirements and, therefore, do not require further OMB clearance.

⁶ 44 U.S.C. 3501-3520.

List of Subjects in 16 CFR Part 305

Advertising, Energy conservation, Household appliances, Labeling, Reporting and recordkeeping requirements.

Accordingly, 16 CFR part 305 is amended as follows:

PART 305—[AMENDED]

1. The authority citation for part 305 continues to read as follows:

Authority: 42 U.S.C. 6294.

Appendix F—[Removed]

2. Appendix F to part 305 is removed.

3. Appendices F1 and F2 to part 305 are added to read as follows:

Appendix F1 to Part 305—Standard Clothes Washers

Range Information

“Standard” includes all household clothes washers with a tub capacity of 1.6 cu. ft or 13 gallons of water or more.

Capacity | Range of estimated annual energy consumption (kWh/yr.): Low | Range of estimated annual energy consumption (kWh/yr.): High
Standard | 177 | 1298

Cost Information

When the above range of comparability is used on EnergyGuide labels for standard clothes washers, the estimated annual operating cost disclosure appearing in the box at the bottom of the labels must be derived using the 2000 Representative Average Unit Costs for electricity (8.03¢ per kiloWatt-hour) and natural gas (68.8.6¢ per therm), and the text below the box must identify the costs as such.

Appendix F2 to Part 305—Compact Clothes Washers

Range Information

“Compact” includes all household clothes washers with a tub capacity of less than 1.6 cu. ft. or 13 gallons of water.

Capacity | Range of estimated annual energy consumption (kWh/yr.): Low | Range of estimated annual energy consumption (kWh/yr.): High
Compact | 350 | 653

Cost Information

When the above range of comparability is used on EnergyGuide labels for compact clothes washers, the estimated annual operating cost disclosure appearing in the box at the bottom of the labels must be derived using the 2003 Representative Average Unit Costs for electricity (8.41¢ per kiloWatt-hour) and natural gas (81.6¢ per therm), and the text below the box must identify the costs as such.

By Direction of the Commission.
Donald S. Clark,
Secretary.

[FR Doc. 03-29102 Filed 11-21-03; 8:45 am]

BILLING CODE 6750-01-M